FEDERAL EMERGENCY MANAGEMENT AGENCY

44 CFR Part 67

[Docket No. FEMA-D-7556]

Proposed Flood Elevation Determinations

AGENCY: Federal Emergency Management Agency, FEMA.

ACTION: Proposed rule.

SUMMARY: Technical information or comments are requested on the proposed base (1% annual chance) flood elevations and proposed base flood elevation modifications for the communities listed below. The base flood elevations are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed base flood elevations for each community are available for inspection at the office of the Chief Executive Officer of each community. The respective addresses are listed in the following table.

FOR FURTHER INFORMATION CONTACT: Michael M. Grimm, Acting Chief, Hazard Study Branch, Federal Insurance and Mitigation Administration, Federal Emergency Management Agency, 500 C Street SW., Washington, DC 20472, (202) 646-2878, or (e-mail) Michael.Grimm@fema.gov.

SUPPLEMENTARY INFORMATION: The Federal Emergency Management Agency (FEMA or Agency) proposes to make determinations of base flood elevations and modified base flood elevations for each community listed below, in accordance with section 110 of the Flood Disaster Protection Act of 1973, 42 U.S.C. 4104, and 44 CFR 67.4(a).

These proposed base flood and modified base flood elevations, together with the floodplain management criteria required by 44 CFR 60.3, are the minimum that are required. They should not be construed to mean that the community must change any existing ordinances that are more stringent in their floodplain management requirements. The community may at any time enact stricter requirements of its own, or pursuant to policies established by other Federal, state or regional entities. These proposed elevations are used to meet the floodplain management requirements of the NFIP and are also used to calculate the appropriate flood insurance premium rates for new buildings built after these elevations are made final, and for the contents in these buildings.

National Environmental Policy Act. This proposed rule is categorically excluded from the requirements of 44 CFR part 10, Environmental Consideration. No environmental impact assessment has been prepared.

Regulatory Flexibility Act. The Administrator, Federal Insurance and Mitigation Administration, certifies that this proposed rule is exempt from the requirements of the Regulatory Flexibility Act because proposed or modified base flood elevations are required by the Flood Disaster Protection Act of 1973, 42 U.S.C. 4104, and are required to establish and maintain community eligibility in the NFIP. As a result, a regulatory flexibility analysis has not been prepared.

Regulatory Classification. This proposed rule is not a significant regulatory action under the criteria of section 3(f) of Executive Order 12866 of September 30, 1993, Regulatory Planning and Review, 58 FR 51735.

Executive Order 12612, Federalism. This proposed rule involves no policies that have federalism implications under Executive Order 12612, Federalism, dated October 26, 1987.

Executive Order 12778, Civil Justice Reform. This proposed rule meets the applicable standards of section 2(b)(2) of Executive Order 12778.

List of Subjects in 44 CFR Part 67

Administrative practice and procedure, flood insurance, reporting and recordkeeping requirements.

Accordingly, 44 CFR Part 67 is proposed to be amended as follows:

PART 67—[AMENDED]

1. The authority citation for Part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

State | City/town/county | Source of flooding | Location | #Depth in feet above ground. *Elevation in feet (NGVD) •Elevation in feet (NAVD): Existing | #Depth in feet above ground. *Elevation in feet (NGVD) •Elevation in feet (NAVD): Modified
Maine | Beals (Town), Washington County | Atlantic Ocean | At Alley Point, approximately 2,700 feet west of the intersection of Black Duck Cove Road and Carver Industry Road | *20 | *14
|  |  | Approximately 800 feet southeast of the end of Black Field Road | *25 | *13
Maps available for inspection at the Beals Town Office, 11 Big Pond Road, Beals, Maine.
Send comments to Mr. Velton Peabody, Chairman of the Town of Beals Board of Selectmen, PO Box 189, Beals, Maine 04611.
Ohio | Gallia County (Incorporated Areas) | Chickamauga Creek | At U.S. Route 35 | *569 | *570
|  |  | Approximately 1600 feet upstream of U.S. Route 35 | *574 | *575
|  | Tributary C | At confluence with Chickamauga Creek | *570 | *571
|  |  | At Mitchell Extension | *599 | *600
|  | Tributary D | At confluence with Tributary C | *574 | *573
|  |  | Approximately 100 feet upstream of confluence with Tributary C | *574 | *573
Maps available for inspection at the Gallia County Offices, 18 Locust Street, Gallipolis, Ohio.
Send comments to Mr. William J. Davis, Jr., President of the Gallia County Board of Commissioners, 18 Locust Street, Gallipolis, Ohio 45631.
West Virginia | Oceana (Town), Wyoming County | Clear Fork | Approximately 330 feet downstream of corporate limits | None | *1,239
|  |  | At upstream corporate limits | *1,295 | *1,292
|  | Laurel Fork | At confluence with Clear Fork | *1,267 | *1,265
|  |  | Approximately 80 feet upstream of corporate limits | *1,299 | *1,297
Maps available for inspection at the Oceana Town Hall, Route 10, Cook Parkway, Oceana, West Virginia.
Send comments to The Honorable John Steffey, Mayor of the Town of Oceana, P.O. Box 190, Oceana, West Virginia 24870.
West Virginia | Smithers (Town), Fayette and Kanawha Counties | Smithers Creek | Approximately 60 feet upstream of confluence with Kanawha River | *627 | *626
|  |  | Approximately 640 feet upstream of County Route 22 | *655 | *652
Maps available for inspection at the Smithers Town Hall, 175 Michigan Avenue, Smithers, West Virginia.
Send comments to The Honorable Eddie A. Long, Mayor of the Town of Smithers, P.O. Box 489, Smithers, West Virginia 25186.
Wisconsin | Dane County (Unincorporated Areas) | Vermont Creek | Just upstream of the Sooline Railroad | *807 | *810
|  |  | A point approximately 0.02 mile upstream of County Highway KP | None | *814
Maps available for inspection at the Dane County City-County Building, 210 Martin Luther King Jr. Boulevard, Madison, Wisconsin.
Send comments to Ms. Kathleen Falk, Dane County Executive, 210 Martin Luther Jr. Boulevard, Madison, Wisconsin 53703.

(Catalog of Federal Domestic Assistance No. 83.100, “Flood Insurance.”)
Dated: February 3, 2003.
Anthony S. Lowe,
Administrator, Federal Insurance and Mitigation Administration.

[FR Doc. 03-3333 Filed 2-10-03; 8:45 am]

BILLING CODE 6718-04-P